DEPARTMENT OF THE INTERIOR

National Park Service

Joseph Tree National Park; Advisory Commission Notice of Meeting

Notice is hereby given in accordance with the Federal Advisory Committee Act that a meeting of the Joshua Tree National Park Advisory Committee (Commission) will be held from 10:00 a.m. (PDT) until 2:00 p.m. on Saturday, May 12, 2001, at the Black Rock Nature Center at 9800 Black Rock Canyon Road, Black Rock Campground, in the city of Yucca Valley, California. The Commission will hear reports on the Climbing Sub-Committee, the Auto-camp Sub-Committee, Fire Ecology, and Overflight Issues.

The Commission was established by Public Law 103-433, section 107 to advise the Secretary concerning the development and implementation of a new or revised comprehensive management plan Joshua Tree National Park.

Members of the Commission include:

Mr. Chuck Bell Planner

Ms. Marie Braschear Mining Interest

Mr. Gary Daigneault Property Owner/Business Interest

Hon. Bill Postmus County of San Bernardino

Mr. John Freter Property Owner Interest

Mr. Julian McIntyre Conservation

Mr. Roger Melanson Equestrian Interest

Mr. Ramon Mendoza Native American Interest

Ms. Leslie Mouriquand Planner

Mr. Richard Russell All Wheel Drive Vehicle Interest

Ms. Lynn Shmakoff Property Owner Interest

Hon. Roy Wilson County of Riverside

Mr. Gilbert Zimmerman Tourism

The meeting is open to the public and will be recorded for documentation and transcribed from dissemination. Minutes of the meeting will be available to the public after approval of the full Advisory Commission. For copies, please contact Superintendent, Joshua Tree National Park, 74485 National Park Drive, Twentynine Palms, California 92277 at (760) 367-5502.

Dated: March 21, 2001.
Mary Risser,
Acting Superintendent.

[FR Doc. 01-8691 Filed 4-6-01; 8:45 am]

BILLING CODE 4310-70-M